DEPARTMENT OF HEALTH AND HUMAN SERVICES

National Institutes of Health

Center for Scientific Review; Amended Notice of Meeting

Notice is hereby given of a change in the meeting of the Center for Scientific Review Special Emphasis Panel, March 31, 2005, 11 a.m. to March 31, 2005, 12 p.m., National Institutes of Health, 6701 Rockledge Drive, Bethesda, MD 20892 which was published in the Federal Register on March 10, 2005, 70 FR 12000-12001.

The meeting will be held on March 30, 2005, from 2 p.m. to 3 p.m. The meeting location remains the same. The meeting is closed to the public.

Dated: March 17, 2005.
LaVerne Y. Stringfield,
Director, Office of Federal Advisory Committee Policy.

[FR Doc. 05-5864 Filed 3-23-05; 8:45 am]

BILLING CODE 4140-01-M